DEPARTMENT OF THE INTERIOR

Fish and Wildlife Service

[FWS-R1-ES-2022-N009; FXES11130100000C4-223-FF01E00000]

Endangered and Threatened Wildlife and Plants; Initiation of 5-Year Status Reviews for 167 Species in Oregon, Washington, Idaho, Montana, California, Hawaii, Guam, and the Northern Mariana Islands

AGENCY: Fish and Wildlife Service, Interior.

ACTION: Notice of initiation of reviews; request for information.

SUMMARY: We, the U.S. Fish and Wildlife Service, are initiating 5-year status reviews for 167 species in Oregon, Washington, Idaho, Montana, California, Hawaii, Guam, and the Northern Mariana Islands under the Endangered Species Act of 1973. Two of these species also occur outside of U.S. jurisdiction in Canada and the South Pacific. A 5-year status review is based on the best scientific and commercial data available at the time of the review; therefore, we are requesting submission of any new information on these species that has become available since the last reviews.

DATES: To ensure consideration in our reviews, we are requesting submission of new information no later than July 11, 2022. However, we will continue to accept new information about any species at any time.

ADDRESSES: Submitting Information on Species:

• Marbled murrelet:

➢ U.S. mail: State Supervisor, Attention: 5-Year Review, U.S. Fish and Wildlife Service, Washington Fish and Wildlife Office, 510 Desmond Dr. Southeast, Suite 102, Lacey, WA 98503; or

➢ Email: WFWO_LR@fws.gov.

• Howell's spectacular thelypody:

➢ U.S. mail: State Supervisor, Attention: 5-Year Review, U.S. Fish and Wildlife Service, Oregon Fish and Wildlife Office, 2600 SE 98th Ave., Suite 100, Portland, OR 97266; or

➢ Email: fw1ofwo@fws.gov.

• Snake River physa snail and Bruneau hot springsnail:

➢ U.S. mail: State Supervisor, Attention: 5-Year Review, U.S. Fish and Wildlife Service, Idaho Fish and Wildlife Office, 1387 S Vinnell Way, Suite 368, Boise, ID 83709; or

➢ Email: ifwo@fws.gov.

• Any of the 163 species occurring in Hawaii, Guam, and/or the Commonwealth of the Northern Mariana Islands:

➢ U.S. mail: Field Supervisor, Attention: 5-Year Review, U.S. Fish and Wildlife Service, Pacific Islands Fish and Wildlife Office, 300 Ala Moana Blvd., Room 3-122, Honolulu, HI 96850; or

➢ Email: pifwo_admin@fws.gov.

FOR FURTHER INFORMATION CONTACT: For general information, please contact Grant Canterbury at 503-231-6151. Individuals in the United States who are deaf, deafblind, hard of hearing, or have a speech disability may dial 711 (TTY, TDD, or TeleBraille) to access telecommunications relay services. Individuals outside the United States should use the relay services offered within their country to make international calls to the point-of-contact in the United States.

For information about the specific species, contact the following people:

• Marbled murrelet: Tom McDowell, Washington Fish and Wildlife Office, 360-753-9440.

• Howell's spectacular thelypody: Jennifer Siani, Oregon Fish and Wildlife Office, 503-231-6179.

• Snake River physa snail and Bruneau hot springsnail: Kathleen Hendricks, Idaho Fish and Wildlife Office, 208-378-5243.

• Any of the 163 species occurring in Hawaii, Guam, and/or the Commonwealth of the Northern Mariana Islands: Megan Laut, Pacific Islands Fish and Wildlife Office, 808-792-9400.

SUPPLEMENTARY INFORMATION:

Why do we conduct 5-year status reviews?

Under the Endangered Species Act of 1973, as amended (Act; 16 U.S.C. 1531, et seq.), we maintain lists of endangered and threatened wildlife and plant species (referred to as the List) in the Code of Federal Regulations (CFR) at 50 CFR 17.11 (for wildlife) and 17.12 (for plants). Section 4(c)(2) of the Act requires us to review each listed species' status at least once every 5 years. For additional information about 5-year status reviews, refer to our factsheet at https://www.fws.gov/endangered/what-we-do/recovery-overview.html.

What information do we consider in our review?

A 5-year status review considers all new information available at the time of the review. In conducting these reviews, we consider the best scientific and commercial data that have become available since the listing determination or most recent status reviews, such as:

A. Species biology, including but not limited to population trends, distribution, abundance, demographics, and genetics;

B. Habitat conditions, including but not limited to amount, distribution, and suitability;

C. Conservation measures that have been implemented that benefit the species;

D. Threat status and trends in relation to the five listing factors (as defined in section 4(a)(1) of the Act); and

E. Other new information, data, or corrections, including but not limited to taxonomic or nomenclatural changes, identification of erroneous information contained in the List, and improved analytical methods.

Any new information will be considered during the 5-year status review and will also be useful in evaluating the ongoing recovery programs for these species.

Which species are under review?

This notice announces our active review of 167 species, including 4 birds, 1 reptile, 50 snails, 9 insects, and 103 plants, as listed in the table below.

Common name | Scientific name | Status | Known range of species occurrence | Final listing rule and publication date
ANIMALS
Birds:
Marbled murrelet [CA, OR, WA distinct population segment (DPS)] | Brachyramphus marmoratus | Threatened | California, Oregon, Washington | 57 FR 45337, 10/1/1992.
Hawaiian goose (Nēnē) | Branta sandvicensis | Threatened | Hawaii | 32 FR 4001, 3/11/1967; 84 FR 69918, 12/19/2019.
Oahu ‘elepaio | Chasiempis ibidis | Endangered | Hawaii | 65 FR 20760, 4/18/2000.
Oahu creeper | Paroreomyza maculata | Endangered | Hawaii | 35 FR 16047, 10/13/1970.
Reptiles:
Slevin's skink (gualik halumtanu, gholuuf) | Emoia slevini | Endangered | Guam, Commonwealth of the Northern Mariana Islands | 80 FR 59423, 10/1/2015.
Snails:
Oahu tree snails | Achatinella spp. (includes all 41 species in genus) * | Endangered | Hawaii | 46 FR 3178, 1/13/1981.
Newcomb's tree snail | Newcombia cumingi | Threatened | Hawaii | 78 FR 32013, 5/28/2013.
Humped tree snail (akaleha', denden) | Partula gibba | Endangered | Guam, Commonwealth of the Northern Mariana Islands | 80 FR 59423, 10/1/2015.
Langford's tree snail (akaleha', denden) | Partula langfordi | Endangered | Commonwealth of the Northern Mariana Islands | 80 FR 59423, 10/1/2015.
Guam tree snail (akaleha', denden) | Partula radiolata | Endangered | Guam | 80 FR 59423, 10/1/2015.
Lanai tree snail | Partulina semicarinata | Endangered | Hawaii | 78 FR 32013, 5/28/2013.
Lanai tree snail | Partulina variabilis | Endangered | Hawaii | 78 FR 32013, 5/28/2013.
Snake River physa snail | Physa natricina | Endangered | Idaho | 57 FR 59244, 12/14/1992.
Bruneau hot springsnail | Pyrgulopsis bruneauensis | Endangered | Idaho | 58 FR 5938, 1/25/1993.
Fragile tree snail | Samoana fragilis | Endangered | Guam, Commonwealth of the Northern Mariana Islands | 80 FR 59423, 10/1/2015.
Insects:
Hawaiian picture-wing fly | Drosophila aglaia | Endangered | Hawaii | 71 FR 26835, 5/9/2006.
Hawaiian picture-wing fly | Drosophila hemipeza | Endangered | Hawaii | 71 FR 26835, 5/9/2006.
Hawaiian picture-wing fly | Drosophila montgomeryi | Endangered | Hawaii | 71 FR 26835, 5/9/2006.
Hawaiian picture-wing fly | Drosophila obatai | Endangered | Hawaii | 71 FR 26835, 5/9/2006.
Hawaiian picture-wing fly | Drosophila substenoptera | Endangered | Hawaii | 71 FR 26835, 5/9/2006.
Hawaiian picture-wing fly | Drosophila tarphytrichia | Endangered | Hawaii | 71 FR 26835, 5/9/2006.
Rota blue damselfly (dulalas Luta, dulalas Luuta) | Ischnura luta | Endangered | Commonwealth of the Northern Mariana Islands | 80 FR 59423, 10/1/2015.
Blackburn's sphinx moth | Manduca blackburni | Endangered | Hawaii | 65 FR 4770, 2/1/2000.
Mariana wandering butterfly (ababbang, libweibwogh) | Vagrans egistina | Endangered | Commonwealth of the Northern Mariana Islands | 80 FR 59423, 10/1/2015.
PLANTS
Flowering Plants:
No common name | Abutilon sandwicense | Endangered | Hawaii | 56 FR 55770, 10/29/1991.
Round-leaved chaff-flower | Achyranthes splendens var. rotundata | Endangered | Hawaii | 51 FR 10518, 3/26/1986.
Ko ‘oko ‘olau | Bidens amplectens | Endangered | Hawaii | 77 FR 57647, 9/18/2012.
Siboyas halumtanu, siboyan halom tano | Bulbophyllum guamense | Threatened | Guam, Commonwealth of the Northern Mariana Islands | 80 FR 59423, 10/1/2015.
Ewa Plains ‘akoko | Chamaesyce [=Euphorbia] skottsbergii var. skottsbergii | Endangered | Hawaii | 47 FR 36846, 8/24/1982.
Haha | Cyanea acuminata | Endangered | Hawaii | 61 FR 53089, 10/10/1996.
Haha | Cyanea calycina | Endangered | Hawaii | 77 FR 57647, 9/18/2012.
Haha | Cyanea crispa | Endangered | Hawaii | 59 FR 14482, 3/28/1994.
Haha | Cyanea grimesiana ssp. obatae | Endangered | Hawaii | 59 FR 32932, 6/27/1994.
Haha | Cyanea humboldtiana | Endangered | Hawaii | 61 FR 53089, 10/10/1996.
Haha | Cyanea koolauensis | Endangered | Hawaii | 61 FR 53089, 10/10/1996.
Haha | Cyanea lanceolata | Endangered | Hawaii | 77 FR 57647, 9/18/2012.
Haha | Cyanea longiflora | Endangered | Hawaii | 61 FR 53089, 10/10/1996.
Haha | Cyanea pinnatifida | Endangered | Hawaii | 56 FR 55770, 10/29/1991.
Haha | Cyanea purpurellifolia | Endangered | Hawaii | 77 FR 57647, 9/18/2012.
Haha | Cyanea st.-johnii | Endangered | Hawaii | 61 FR 53089, 10/10/1996.
No common name | Cyanea superba | Endangered | Hawaii | 56 FR 46235, 9/11/1991.
Haha | Cyanea truncata | Endangered | Hawaii | 59 FR 14482, 3/28/1994.
Fadang, faadang | Cycas micronesica | Threatened | Guam, Commonwealth of the Northern Mariana Islands, Federated States of Micronesia, Independent Republic of Palau | 80 FR 59424, 10/1/2015.
Pu‘uka‘a | Cyperus trachysanthos | Endangered | Hawaii | 61 FR 53108, 10/10/1996.
Ha'iwale | Cyrtandra crenata | Endangered | Hawaii | 59 FR 14482, 3/28/1994.
Ha‘iwale | Cyrtandra dentata | Endangered | Hawaii | 61 FR 53089, 10/10/1996.
Ha‘iwale | Cyrtandra gracilis | Endangered | Hawaii | 77 FR 57647, 9/18/2012.
Ha‘iwale | Cyrtandra kaulantha | Endangered | Hawaii | 77 FR 57647, 9/18/2012.
Ha‘iwale | Cyrtandra polyantha | Endangered | Hawaii | 59 FR 14482, 3/28/1994.
Ha‘iwale | Cyrtandra sessilis | Endangered | Hawaii | 77 FR 57647, 9/18/2012.
Ha‘iwale | Cyrtandra subumbellata | Endangered | Hawaii | 61 FR 53089, 10/10/1996.
Ha‘iwale | Cyrtandra viridiflora | Endangered | Hawaii | 61 FR 53089, 10/10/1996.
Ha‘iwale | Cyrtandra waiolani | Endangered | Hawaii | 77 FR 57647, 9/18/2012.
Oha | Delissea subcordata | Endangered | Hawaii | 61 FR 53089, 10/10/1996.
No common name | Delissea undulata | Endangered | Hawaii | 61 FR 53124, 10/10/1996.
No common name | Dendrobium guamense | Threatened | Guam, Commonwealth of the Northern Mariana Islands | 80 FR 59424, 10/1/2015.
Na‘ena‘e | Dubautia herbstobatae | Endangered | Hawaii | 56 FR 55770, 10/29/1991.
Fosberg's love grass | Eragrostis fosbergii | Endangered | Hawaii | 61 FR 53089, 10/10/1996.
No common name | Eugenia bryanii | Endangered | Guam | 80 FR 59424, 10/1/2015.
Nioi | Eugenia koolauensis | Endangered | Hawaii | 59 FR 14482, 3/28/1994.
‘Akoko | Euphorbia celastroides var. kaenana | Endangered | Hawaii | 56 FR 55770, 10/29/1991.
‘Akoko | Euphorbia deppeana | Endangered | Hawaii | 59 FR 14482, 3/28/1994.
‘Akoko | Euphorbia herbstii | Endangered | Hawaii | 61 FR 53089, 10/10/1996.
‘Akoko | Euphorbia kuwaleana | Endangered | Hawaii | 56 FR 55770, 10/29/1991.
‘Akoko | Euphorbia rockii | Endangered | Hawaii | 61 FR 53089, 10/10/1996.
Nanu | Gardenia mannii | Endangered | Hawaii | 61 FR 53089, 10/10/1996.
No common name | Gouania vitifolia | Endangered | Hawaii | 59 FR 32932, 6/27/1994.
Pau dedu, pao doodu | Hedyotis megalantha | Endangered | Guam | 80 FR 59424, 10/1/2015.
Ufa halumtanu, ufa halom tano | Heritiera longipetiolata | Endangered | Guam, Commonwealth of the Northern Mariana Islands | 80 FR 59424, 10/1/2015.
No common name | Hesperomannia arbuscula | Endangered | Hawaii | 56 FR 55770, 10/29/1991.
No common name | Kadua degeneri | Endangered | Hawaii | 56 FR 55770, 10/29/1991.
No common name | Kadua parvula | Endangered | Hawaii | 56 FR 55770, 10/29/1991.
Kohe malama malama o Kanaloa | Kanaloa kahoolawensis | Endangered | Hawaii | 64 FR 48307, 9/3/1999.
Hulumoa | Korthalsella degeneri | Endangered | Hawaii | 77 FR 57647, 9/18/2012.
Kamakahala | Labordia cyrtandrae | Endangered | Hawaii | 61 FR 53089, 10/10/1996.
‘Anaunau | Lepidium arbuscula | Endangered | Hawaii | 61 FR 53089, 10/10/1996.
‘Anaunau | Lepidium orbiculare | Endangered | Hawaii | 81 FR 67786, 9/30/2016.
Nehe | Lipochaeta lobata var. leptophylla | Endangered | Hawaii | 56 FR 55770, 10/29/1991.
No common name | Lobelia koolauensis | Endangered | Hawaii | 61 FR 53089, 10/10/1996.
No common name | Lobelia monostachya | Endangered | Hawaii | 61 FR 53089, 10/10/1996.
No common name | Lobelia oahuensis | Endangered | Hawaii | 59 FR 14482, 3/28/1994.
Nehe | Melanthera tenuifolia | Endangered | Hawaii | 56 FR 55770, 10/29/1991.
Alani | Melicope christophersenii | Endangered | Hawaii | 77 FR 57647, 9/18/2012.
Alani | Melicope hiiakae | Endangered | Hawaii | 77 FR 57647, 9/18/2012.
Alani | Melicope lydgatei | Endangered | Hawaii | 59 FR 14482, 3/28/1994.
Alani | Melicope makahae | Endangered | Hawaii | 77 FR 57647, 9/18/2012.
Alani | Melicope saint-johnii | Endangered | Hawaii | 61 FR 53089, 10/10/1996.
Kolea | Myrsine juddii | Endangered | Hawaii | 61 FR 53089, 10/10/1996.
No common name | Neraudia angulata | Endangered | Hawaii | 56 FR 55770, 10/29/1991.
Kulu ī | Nototrichium humile | Endangered | Hawaii | 56 FR 55770, 10/29/1991.
No common name | Phyllanthus saffordii | Endangered | Guam | 80 FR 59424, 10/1/2015.
No common name | Phyllostegia hirsuta | Endangered | Hawaii | 61 FR 53089, 10/10/1996.
No common name | Phyllostegia kaalaensis | Endangered | Hawaii | 61 FR 53089, 10/10/1996.
No common name | Phyllostegia mollis | Endangered | Hawaii | 56 FR 55770, 10/29/1991.
No common name | Platydesma cornuta var. cornuta | Endangered | Hawaii | 77 FR 57647, 9/18/2012.
No common name | Platydesma cornuta var. decurrens | Endangered | Hawaii | 77 FR 57647, 9/18/2012.
Hala pepe | Pleomele forbesii | Endangered | Hawaii | 77 FR 57647, 9/18/2012.
Ohe ‘ohe | Polyscias gymnocarpa | Endangered | Hawaii | 59 FR 14482, 3/28/1994.
No common name | Polyscias lydgatei | Endangered | Hawaii | 77 FR 57647, 9/18/2012.
Loulu | Pritchardia kaalae | Endangered | Hawaii | 61 FR 53089, 10/10/1996.
Kopiko | Psychotria hexandra ssp. oahuensis | Endangered | Hawaii | 77 FR 57647, 9/18/2012.
Aplokating palaoan | Psychotria malaspinae | Endangered | Guam | 80 FR 59424 10/1/2015.
Kaulu | Pteralyxia macrocarpa | Endangered | Hawaii | 77 FR 57647, 9/18/2012.
No common name | Sanicula mariversa | Endangered | Hawaii | 56 FR 55770, 10/29/1991.
Diamond Head schiedea | Schiedea adamantis | Endangered | Hawaii | 49 FR 6099, 2/17/1984.
No common name | Schiedea kaalae | Endangered | Hawaii | 56 FR 55770, 10/29/1991.
Ma‘oli‘oli | Schiedea kealiae | Endangered | Hawaii | 61 FR 53089, 10/10/1996.
No common name | Schiedea nuttallii | Endangered | Hawaii | 61 FR 53108, 10/10/1996.
No common name | Schiedea obovata | Endangered | Hawaii | 56 FR 55770, 10/29/1991.
No common name | Schiedea trinervis | Endangered | Hawaii | 56 FR 55770, 10/29/1991.
No common name | Silene perlmanii | Endangered | Hawaii | 56 FR 55770, 10/29/1991.
Biringenas halumtanu, Birengenas halom tano | Solanum guamense | Endangered | Guam, Commonwealth of the Northern Mariana Islands | 80 FR 59424, 10/1/2015.
No common name | Stenogyne kanehoana | Endangered | Hawaii | 57 FR 20592, 5/13/1992.
No common name | Tabernaemontana rotensis | Threatened | Guam, Commonwealth of the Northern Mariana Islands | 80 FR 59424, 10/1/2015.
No common name | Tetramolopium filiforme | Endangered | Hawaii | 56 FR 55770, 10/29/1991.
No common name | Tetramolopium lepidotum ssp. lepidotum | Endangered | Hawaii | 56 FR 55770, 10/29/1991.
Howell's spectacular thelypody | Thelypodium howellii ssp. spectabilis | Threatened | Oregon | 64 FR 28403, 5/26/1999.
No common name | Tinospora homosepala | Endangered | Guam | 80 FR 59424, 10/1/2015.
No common name | Trematolobelia singularis | Endangered | Hawaii | 61 FR 53089, 10/10/1996.
No common name | Tuberolabium guamense | Threatened | Guam, Commonwealth of the Northern Mariana Islands | 80 FR 59424, 10/1/2015.
Opuhe | Urera kaalae | Endangered | Hawaii | 56 FR 55770, 10/29/1991.
Pamakani | Viola chamissoniana ssp. chamissoniana | Endangered | Hawaii | 56 FR 55770, 10/29/1991.
No common name | Viola oahuensis | Endangered | Hawaii | 61 FR 53089, 10/10/1996.
A‘e | Zanthoxylum oahuense | Endangered | Hawaii | 77 FR 57647, 9/18/2012.
Ferns and Allies:
No common name | Asplenium dielfalcatum | Endangered | Hawaii | 56 FR 55770, 10/29/1991.
No common name | Asplenium unisorum | Endangered | Hawaii | 59 FR 32932, 6/27/1994.
No common name | Doryopteris takeuchii | Endangered | Hawaii | 77 FR 57647, 9/18/2012.
* Species within the listed genus Achatinella include A. abbreviata, A. apexfulva, A. bellula, A. buddii, A. bulimoides, A. byronii, A. caesia, A. casta, A. cestus, A. concavospira, A. curta, A. decipiens, A. decora, A. dimorpha, A. elegans, A. fulgens, A. fuscobasis, A. juddii, A. juncea, A. lehuiensis, A. leucorrhaphe, A. lila, A. livida, A. lorata, A. mustelina, A. papyracea, A. phaeozona, A. pulcherrima, A. pupukanioe, A. rosea, A. sowerbyana, A. spaldingi, A. stewartii, A. swiftii, A. taeniolata, A. thaanumi, A. turgida, A. valida, A. viridans, A. vittata, and A. vulpina.

Request for New Information

To ensure that a 5-year status review is complete and based on the best available scientific and commercial information, we request new information from all sources. See What Information Do We Consider in Our Review? for specific criteria. If you submit information, please support it with documentation such as maps, references, methods used to gather and analyze the data, and/or copies of any pertinent publications, reports, or letters by knowledgeable sources.

If you wish to provide information for any species listed in the table, please submit your comments and materials to the appropriate contact in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Completed and Active Reviews

A table including hyperlinks to the most recently completed 5-year status review for each listed species, as well as notices of 5-year status reviews that are currently in progress, is available at https://ecos.fws.gov/ecp/report/species-five-year-review.

Authority

This document is published under the authority of the Endangered Species Act of 1973, as amended (16 U.S.C. 1531 et seq.).

Nanette Seto,
Acting Regional Director, U.S. Fish and Wildlife Service.

[FR Doc. 2022-09980 Filed 5-9-22; 8:45 am]

BILLING CODE 4333-15-P